DEPARTMENT OF THE INTERIOR

Fish and Wildlife Service

50 CFR Part 17

[Docket No. FWS-R4-ES-2012-0020; 92220-1113-0000-C6]

RIN 1018-AX60

Endangered and Threatened Wildlife and Plants; Reclassification of the Continental United States Breeding Population of the Wood Stork From Endangered to Threatened; Correction

AGENCY: Fish and Wildlife Service, Interior.

ACTION: Proposed rule and notice of petition finding; correction.

SUMMARY: On December 26, 2012, we, the U.S. Fish and Wildlife Service, published a proposed rule and petition finding to reclassify the continental United States (U.S.) breeding population of wood stork from endangered to threatened under the Endangered Species Act of 1973, as amended (Act). In that publication, we supplied an incorrect docket number for commenters to use when they send us comments. The correct docket number is FWS-R4-ES-2012-0020.

DATES: We will accept comments received or postmarked on or before February 25, 2013. We must receive requests for a public hearing in writing, at the address shown in the FOR FURTHER INFORMATION CONTACT section, by February 11, 2013.

ADDRESSES: You may submit comments by one of the following methods:

• Federal eRulemaking Portal: http://www.regulations.gov. Follow the instructions for submitting comments on Docket No. FWS-R4-ES-2012-0020.

• U.S. mail or hand-delivery: Public Comments Processing, Attn: FWS-R4-ES-2012-0020; Division of Policy and Directives Management; U.S. Fish and Wildlife Service; 4401 N. Fairfax Drive, Suite 222; Arlington, VA 22203.

FOR FURTHER INFORMATION CONTACT: Field Supervisor, North Florida Ecological Services Field Office, 7915 Baymeadows Way, Suite 200, Jacksonville, FL 32256; telephone 904-731-3336; facsimile 904-731-3045. If you use a telecommunications device for the deaf, please call the Federal Information Relay Service at 800-877-8339, 24 hours a day, 7 days a week.

SUPPLEMENTARY INFORMATION:

Correction of Error

On December 26, 2012 (77 FR 75947), we published a petition finding and proposed rule to reclassify the continental U.S. breeding population of wood stork from endangered to threatened under the Act (16 U.S.C. 1531 et seq.). In that publication, we supplied an incorrect docket number for commenters to use when they send us comments. We are publishing this notice to clarify that the correct docket number is FWS-R4-ES-2012-0020. However, if you already submitted a comment, you need not resubmit it.

Commenting Online

In our December Federal Register publication, we inadvertently asked commenters wishing to submit comments online via http://www.regulations.gov to search for our docket using the incorrect docket number, which actually did not appear anywhere on the regulations.gov site. However, users who searched based on key words (e.g., species name) rather than on the incorrect docket number were able to find the document and comment successfully. These comments have been placed into the correct docket. Therefore, if you already submitted a comment via regulations.gov, you need not resubmit it.

Commenting via U.S. Mail or Hand-Delivery

We also asked commenters submitting hardcopy comments to refer to this incorrect docket number in their comments. However, comments we received by U.S. mail or hand delivery will be routed to the correct docket. If you already submitted a hardcopy comment, you need not resubmit it.

Background

For the petition finding and proposed rule, please see our original Federal Register document at 77 FR 75947.

Sara Prigan,
Federal Register Liaison.

[FR Doc. 2012-31718 Filed 1-2-13; 1:55 pm]

BILLING CODE 4310-55-P